FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AB Group Shipping Corp (NVO & OFF), 6848 NW 77th Court, Miami, FL 33166, Officers: Marcela A. Prado, President (QI), Sebastian A. Perez, Vice President, Application Type: Add NVO Service.

Allmia International Corporation (OFF), 10301 NW 108th Avenue, Suite 2, Medley, FL 33178, Officer: Rebeca Carroll, President (QI), Application Type: New OFF License.

Automobile Export Loaders of America, Inc (OFF), 8730 NW 36th Avenue, Suite A, Miami, FL 33147, Officers: Angela M. Rivera, President (QI), Howard Helfer, Vice President, Application Type: New OFF License.

Bring Logistics US, Inc. (NVO & OFF), 4500 N. Sam Houston Parkway W., #130, Houston, TX 77086, Officers: Breanna G. Morgan, Assistant Secretary (QI), Steinar Wilk, US Director, Application Type: QI Change.

Central Oceans USA LLC (NVO & OFF), 1910 Abbott Street, #202, Charlotte, NC 28203, Officers: Joseph C. Toe, Managing Director (QI), Thomson L. Silvers, Director, Operations, Application Type: New NVO & OFF License.

Contract Logistics, LLC (NVO & OFF), 4911 N. Portland Avenue, Suite 200, Oklahoma City, OK 73112, Officers: Thomas W. Young, Vice President Ocean Transportation (QI), Gregory P. Roush, Manager, Application Type: New NVO & OFF License.

Crescent Line Inc. dba Globe Express Services (NVO & OFF), 535 Regal Row, Dallas, TX 75247, Officers: Lee M. Davis, Vice President (QI), Ali Charanck, President, Application Type: QI Change.

CTS Global Logistics (Georgia) Inc. dba CTS Global Supply Chain Solutions (NVO & OFF), 5192 Southridge Parkway, Suite 117, Atlanta, GA 30349, Officers: Stephen N. Arra, Vice President (QI), Xian-Zhong (David) Cai, President, Application Type: QI Change.

DCI Transport LLC (OFF), 2270 Pendley Road, #113, Cumming, GA 30041, Officers: Christie Patterson, Manager (QI), Christopher W. Purdy, Chief Executive Manager, Application Type: New OFF License.

Dynasty CHB, Inc. (NVO & OFF), 365 Chelsea Street, East Boston, MA 02128, Officers: Dawn Lowry, President (QI), Patrick Lee, Director, Application Type: Name Change to Dynasty International, Inc.

JJB Trucking Services & Shipping LLC (NVO & OFF), 339 Market Street, Paterson, NJ 07524, Officers: Bertha C. Triminio, Partner (QI), Julio C. Madrid, Partner, Application Type: New NVO & OFF License.

Hydra Logistics, Inc. dba Globe Express Services (NVO & OFF), 14205 Westfair West Drive, Houston, TX 77041, Officers: Lee M. Davis, President (QI), Sarah Namani, Secretary, Application Type: QI Change.

I.T.N. Consolidators, Inc. dba International Transportation Network (NVO), 3401-C NW. 72nd Avenue, Miami, FL 33122, Officers: Daniel L. Grimes, Chief Operating Officer (QI), John R. Nash, Chief Financial Officer, Application Type: QI Change.

I.T.N. of Miami, Inc. (NVO), 3401-C NW. 72nd Avenue, Miami, FL 33122, Officers: Daniel L. Grimes, Chief Operating Officer (QI), John R. Nash, Chief Financial Officer, Application Type: QI Change & Add Trade Name, ITN Worldwide.

IP Logistics, Inc. (NVO), 968 West 10th Street, Azusa, CA 91702, Officers: Kenny Yip, Vice President (QI), Amelia Louie, President, Application Type: New NVO License.

ISI Express (N.Y.) Inc. (NVO), 177-17 150th Avenue, Suite 202, Jamaica, NY 11434, Officer: Gin Choo Lim Yuen, President (QI), Application Type: QI Change.

M. V. P. International Freight Systems, Inc. (NVO & OFF), 8012 NW 29th Street, Suite 201, Miami, FL 33122, Officers: Jorge M. Palacios, Secretary (QI), Alexandra R. Palacios, President, Application Type: New NVO & OFF License.

Madkem Logistics Inc. (NVO & OFF), 355 Jefferson Avenue, Ground Floor, Brooklyn, NY 11221, Officers: Thomas Salako, Vice President (QI), Ade Ranti, President, Application Type: New NVO & OFF License.

MTS Transportation, Inc. (NVO), 8054 E. Garvey Avenue, Rosemead, CA 91770, Officers: Roger Wu, President (QI), Sandy Wu, Treasurer, Application Type: QI Change.

Quasar Logistics Inc (NVO & OFF), 18460 Jamaica Avenue, Hollis, NY 11423, Officers: Rene Madrazo, Chief Logistics Officer (QI), Qaiser Choudri, President, Application Type: New NVO & OFF License.

RR Donnelley Logistics Services Worldwide, Inc. dba DLS Worldwide (NVO & OFF), 1000 Windham Parkway, Bolingbrook, IL 60490, Officers: Thomas K. Griffin, President (QI), Charles E. Fattore, Chairman, Application Type: New NVO & OFF License.

Seastar International Group Inc (NVO & OFF), 1170 US Highway 22, #105, Bridgewater, NJ 08807, Officers: Ying Zhao, President (QI), Wei Liu, Secretary, Application Type: Add NVO Service.

Seven Seas Spirit, Inc (NVO), 1851 NE 146th Street, North Miami, FL 33181, Officer: Yelena Farber, President (QI), Application Type: New NVO License.

US Com Express, LLC (NVO & OFF), 1420 Francisco Street, Torrance, CA 90501, Officer: Young C. Joh, Member (QI), Application Type: New NVO & OFF License.

Walmay Logistics Inc. (NVO), 5171 Via Marcos, Yorba Linda, CA 92887, Officers: Shifeng Hou, President (QI), Song Yang, Managing Director, Application Type: New NVO License.

By the Commission.
Dated: September 21, 2012.
Rachel E. Dickon,
Assistant Secretary.

[FR Doc. 2012-23707 Filed 9-25-12; 8:45 am]

BILLING CODE 6730-01-P